DEPARTMENT OF THE INTERIOR

Bureau of Land Management

[MTM 21943]

Notice of Proposed Withdrawal Extension and Opportunity for Public Meeting; Montana

AGENCY: Bureau of Land Management, Interior.

ACTION: Notice.

SUMMARY: On behalf of the U.S. Department of Agriculture (USDA), Forest Service, the Secretary of the Interior proposes to extend Public Land Order No. 6669 for an additional 20-year period. The order withdrew National Forest System land from mining to protect the Lincoln Gulch Historic Site. This notice also gives an opportunity to comment on the proposed action and to request a public meeting. The land has been and will remain open to the appropriate forms of surface entry and mineral leasing.

DATES: Comments and requests for a public meeting must be received by March 3, 2008.

ADDRESSES: Comments and meeting requests should be sent to the Regional Forester, U.S. Forest Service, Region 1, P.O. Box 7669, Missoula, Montana 59807, or the Montana State Director, Bureau of Land Management, 5001 Southgate Drive, Billings, Montana 59101-4669.

FOR FURTHER INFORMATION CONTACT: Scott Bixler, U.S. Forest Service, Region 1, P.O. Box 7669, Missoula, Montana 59807, 406-329-3655, or Sandra Ward, Bureau of Land Management, Montana State Office, 5001 Southgate Drive, Billings, Montana 59101-4669, 406-896-5052.

SUPPLEMENTARY INFORMATION: The withdrawal created by PLO No. 6669 (53FR9628, March 24, 1988) will expire March 23, 2008, unless extended. The USDA, Forest Service, has filed an application to extend Public Land Order No. 6669 for an additional 20-year period. An extension, if approved, would continue the withdrawal of National Forest System land from location or entry under the United States mining laws, subject to valid existing rights, and would continue protection of the historic archeological site, artifacts, and cemetery on the following-described land:

Principal Meridian, Montana

T. 14 N., R. 9 W.

Sec. 8, W½SE¼NW¼, W½NE¼SW¼, SE¼SW¼, and SW¼SW¼SE¼.

The area described contains 90 acres in Lewis and Clark County.

The purpose of the proposed extension is to continue the withdrawal created by PLO No. 6669 for an additional 20-year term to protect the historic archeological site, artifacts, and cemetery.

As extended, the withdrawal would not alter the applicability of those public land laws governing the use of National Forest System lands under lease, license, or permit or governing the disposal of the mineral or vegetative resources other than under the mining laws.

The use of a right-of-way or interagency or cooperative agreement would not adequately protect the historic area.

There are no suitable alternative sites available. There are no other federal lands in the area containing these historic resources and cemetery.

No water will be needed to fulfill the purpose of the requested withdrawal extension.

For a period of 90 days from the date of publication of this notice, all persons who wish to submit comments, suggestions, or objections in connection with the proposed withdrawal extension may present their views in writing to the Montana State Director, Bureau of Land Management, at the address noted above.

Comments, including names and street addresses of respondents, will be available for public review at the Bureau of Land Management, Montana State Office, at the address noted above during regular business hours 8 a.m. to 4:30 p.m., Monday through Friday, except holidays. Before including your address, phone number, e-mail address, or other personal identifying information in your comments, be advised that your entire comment—including your personal identifying information—may be made publicly available at any time. While you can ask us in your comment to withhold from public review your personal identifying information, we cannot guarantee that we will be able to do so. Notice is hereby given that an opportunity for a public meeting is afforded in connection with the proposed withdrawal extension. All interested persons who desire a public meeting for the purpose of being heard on the proposed withdrawal extension must submit a written request to the Montana State Director, Bureau of Land Management, within 90 days from the date of publication of this notice. If the authorized officer determines that a public meeting will be held, a notice of the time and place will be published in the Federal Register at least 30 days before the scheduled date of the meeting.

This withdrawal extension proposal will be processed in accordance with the applicable regulations set forth in 43 CFR 2310.4.

(Authority: 43 CFR 2310.3-1(b)(1))

Dated: November 26, 2007.
Gene R. Terland,
State Director, Montana State Office.

[FR Doc. E7-23463 Filed 12-3-07; 8:45 am]

BILLING CODE 3410-11-P